DEPARTMENT OF STATE

[Public Notice 3290]

Office of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to section 36(c) and in compliance with section 36(e) of the Arms Export Control Act (22 U.S.C. 2776).

EFFECTIVE DATE: March 7, 20, and 22, 2000.

FOR FURTHER INFORMATION CONTACT: Mr. William J. Lowell, Director, Office of Defense Trade Controls, Bureau of Political-Military Affairs, Department of State (703 875-6644).

SUPPLEMENTARY INFORMATION: Section 38(e) of the Arms Export Control Act mandates that notifications to the Congress pursuant to section 36(c) must be published in the Federal Register when they are transmitted to Congress or as soon thereafter as practicable.

Dated: April 11, 2000.
William J. Lowell,
Director, Office of Defense Trade Controls.
Speaker of the House of Representatives.

March 7, 2000.

Dear Mr. Speaker: Pursuant to section 36(c) of the Arms Export Control Act, I am transmitting herewith certification of a proposed license for the export of defense articles or defense services sold commercially under a contract in the amount $50,000,000 or more.

The transaction contained in the attached certification involves the follow-on technical assistance agreements with Russia beyond those addressed in DTC 39-98, dated March 19, 1998 and DTC 98-99, dated August 5, 1999, providing for the marketing and sale of satellite launch services utilizing Proton rocket boosters and the performance of associated integration and launch services from Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary Legislative Affairs.

Enclosure: Transmittal No. DTC 014-00.

The Honorable J. Dennis Hastert,

The Honorable J. Dennis Hastert,

Speaker of the House of Representatives.

March 22, 2000.

Dear Mr. Speaker: Pursuant to Section 36(c) of the Arms Export Control Act, I am transmitting, herewith, certification of a proposed license for the export of defense articles or defense services sold commercially under a contract in the amount $50,000,000 or more.

The transaction contained in the attached certification involves the design, manufacture, launch and support of a mobile commercial communications satellite for Japan.

The United States Government is prepared to license the export of these items having taken into account political, military, economic, human rights, and arms control considerations.

More detailed information is contained in the formal certification which, though unclassified contains business information submitted to the Department of State by the applicant, publication of which could cause competitive harm to the United States firm concerned.

Sincerely,

Barbara Larkin,

Assistant Secretary Legislative Affairs.

Enclosure: Transmittal No. DTC 019-00.

The Honorable J. Dennis Hastert,

Speaker of the House of Representatives.

March 20, 2000.

Dear Mr. Speaker: Pursuant to section 36(c)&(d) of the Arms Export Control Act, I am transmitting herewith certification of proposed Technical Assistance Agreements and Manufacturing License Agreements with Russia.

The transactions described in the attached certification involve the manufacture in Russia and the United States of RD-180 two-chamber rocket motors for use on Atlas launch vehicles, including the USAF Evolved Expendable Launch Vehicle.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary Legislative Affairs.

Enclosure: Transmittal No. DTC 125-99.

[FR Doc. 00-9532 Filed 4-17-00; 8:45 am]

BILLING CODE 4710-25-U